DEPARTMENT OF THE INTERIOR

Bureau of Land Management

[UT-110-07-1220-PM-24-1A]

Notice of Proposed Supplementary Rules for Motorized Dispersed Camping at the Sand Spring and Dry Lake Bed Sites Managed by the Kanab Field Office, Kane County, UT

AGENCY: Bureau of Land Management, Interior.

ACTION: Proposed Supplementary Rules.

SUMMARY: The Bureau of Land Management (BLM) is proposing supplementary rules for motorized camping at two undeveloped sites within the Moquith Mountain Wilderness Study Area (WSA). The proposed supplementary rules would help protect public health, and maintain Wilderness Study Area values and public land recreation opportunities in the area.

DATES: Comments on the proposed supplementary rules must be received or postmarked by November 21, 2008 to be assured consideration. In developing final supplementary rules, BLM may not consider comments postmarked or received in person or by electronic mail after this date.

ADDRESSES: Mail or hand deliver all comments concerning the proposed supplementary rule to the Bureau of Land Management, 318 North First East, Kanab, Utah 84741 or e-mail comments to Mail_UT-Kanab@ut.blm.gov

FOR FURTHER INFORMATION CONTACT: Documents associated with the development of these supplementary rules, including but not limited to environmental and other analyses, can be viewed by contacting Tom Christensen, Outdoor Recreation Planner, BLM Kanab Field Office, 318 North First East, Kanab, Utah 84741, or telephone 435-644-4600.

SUPPLEMENTARY INFORMATION:

I. Public Comment Procedures

This notice and a map depicting the area included under this requirement are available for public review at the Kanab Field Office. The area covered by this requirement is also shown on a map on the Kanab Field Office's Web site at http://www.blm.gov/ut/st/en/fo/kanab.html.

Written comments on the proposed supplementary rules should be specific, confined to issues pertinent to the proposed supplementary rules, and should explain the reason for any recommended change. Where possible, comments should reference the specific section or paragraph of the rule that the comment is addressing. The BLM need not consider (a) comments that BLM receives after the close of the comment period (see DATES), unless they are postmarked or electronically dated before the deadline, or (b) comments delivered to an address other than those listed above (see ADDRESSES). You may also access and comment on the proposed supplementary rules at the Federal eRulemaking Portal by following the instructions at that site (see ADDRESSES).

Comments, including names, street addresses, and other contact information of respondents, will be available for public review at the Kanab Field Office, 318 North First East, Kanab, Utah 84741, during regular business hours (7:45 a.m. to 4:30 p.m.), Monday through Friday, except Federal holidays.

Before including your address, telephone number, e-mail address, or other personal identifying information in your comment, be advised that your entire comment—including your personal identifying information—may be made publicly available at any time. While you can ask us in your comment to withhold from public review your personal identifying information, we cannot guarantee that we will be able to do so.

II. Background

The BLM established the 14,830-acre Moquith Mountain WSA in 1980 upon determining that the public lands that now comprise the WSA contain wilderness characteristics of naturalness, outstanding opportunities for solitude, and primitive and unconfined recreation values. The Wilderness Act (16 U.S.C. 1131-1136) and section 603 of the Federal Land Policy and Management Act (43 U.S.C. 1782) provided the authority for establishing the WSA. The BLM Kanab Field Office in Kane County, Utah manages the WSA.

The following supplementary rules are proposed to implement the Vermilion Management Framework Plan (MFP) Amendment and associated Decision Record (August 2000) with respect to motorized dispersed camping at two sites within the WSA. These sites, which are known as Sand Spring and the dry lake bed, are located on the periphery of the Coral Pink Sand Dunes. The northern portion of the Coral Pink Sand Dunes (approximately 1,500 acres) is part of the Moquith Mountain WSA. The remaining 2,000 acres of the Dunes are within Coral Pink Sand Dunes State Park. No distinctive land form features separate BLM and State Park lands.

Recreation facilities in the Coral Pink Sand Dunes State Park consist of a 22-unit developed campground (with water, rest room, and shower facilities), a day-use area, parking lot, interpretive board walk, utility facilities and an office. The BLM administers the nine-unit Ponderosa Grove Campground at the northern end of the sand dunes. Facilities at Ponderosa Grove include picnic tables, grills, and fire rings, vault toilets, and limited vehicle parking. At times during the year, especially on holiday weekends, these developed campgrounds are not sufficient to meet camping needs.

For this reason, the MFP Amendment provides for alternative, undeveloped camping areas at Sand Spring and up to four acres of the dry lake bed, and includes some rules to prevent harm to visitors or resources. This type of recreation is known as dispersed camping. The MFP Amendment also provides for cooperation with the State Park in the management of the WSA. The BLM has shared management of the dunes portion of the WSA with the State Park since 2002, under the terms of an Assistance Agreement. The BLM contributes funding in exchange for enhanced staffing and patrols provided by State Park personnel. At present, no supplementary rules are in effect for Sand Spring or the dry lake bed.

III. Discussion of Proposed Supplementary Rules

As noted in the Vermilion MFP Amendment, the BLM has allowed dispersed motorized and non-motorized camping at Sand Spring and the dry lake bed for several years, and has been monitoring camping activities at the two sites. Recently BLM has observed increasing hazards to visitors and to natural resources due to fires and improper disposal of garbage, ashes, and wastewater (also known as gray water) from sinks, baths or laundry machines.

A. Proposed Fire Rules

At Sand Spring, the BLM has observed damage to vegetation and adjacent fencing caused by fires, as well as safety and sanitation hazards resulting from trash left in fire rings. Since these impacts are nearly always associated with campers situated beside the main dunes access route, the BLM has determined that a prohibition on all ground fires within a 500-foot radius of the designated motorized entry path to the sand dunes within the Moquith Mountain WSA is necessary in order to safeguard public safety and to prevent damage to the wilderness characteristics of the WSA.

At the dry lake bed, the BLM has observed that the camping areas can become tightly confined. In these circumstances, open fires and fires in fire rings put visitors' safety at risk, and can adversely impact the wilderness characteristics of the Moquith Mountain WSA. The BLM has determined that, while an outright prohibition on ground fires is unwarranted at the dry lake bed, requiring fire pans at that location would help contain fire, and facilitate the collection and removal of ashes. Safety hazards and impacts to the ground and vegetation would thus be reduced.

The BLM does not propose to require any specific type of fire pan in these supplementary rules. However, BLM recommends the use of a metal tray with rigid sides, at least 3 inches high, and a stand that elevates the fire pan above the ground.

B. Proposed Disposal Rules

Recently the BLM has observed unsanitary conditions at both Sand Spring and the dry lake bed, as a result of the disposal of garbage, ashes, and gray water. Visitors' health, safety, and recreational experience are at risk, as is the naturalness character of the WSA.

Existing regulations at 43 CFR 8365.1 through 8365.1-7 address the use and occupancy of all public lands, including the undeveloped campsites at Sand Spring and the dry lake bed. One of these regulations provides that no person shall dispose of “sewage or petroleum products or dump refuse or waste other than wash water from any trailer or other vehicle except in places or receptacles provided for that purpose.” 43 CFR 8365.1-1(b)(3). Since Sand Spring and the dry bed are undeveloped sites without designated disposal places or receptacles, the BLM construes this existing regulation as a prohibition against disposal of water from toilets at those locations. The existing regulation thus mitigates some, but not all, of the unsanitary conditions that have been observed at Sand Spring and the dry lake bed.

In order to further improve conditions, the proposed supplementary rules would prohibit the disposal of garbage, ashes and gray water, and the digging of holes for the purpose of such disposal. The objectives of such supplementary rules would be to safeguard public health and safety, restore a high-quality recreational experience for all visitors, and minimize the human imprint on the WSA.

If these proposed supplementary rules become effective, the BLM will include information about them on signs at or leading to major camping areas in the WSA.

IV. Procedural Matters

Executive Order 12866, Regulatory Planning and Review

These proposed supplementary rules are not a significant regulatory action and are not subject to review by the Office of Management and Budget under Executive Order 12866. The proposed supplementary rules would not have an annual effect of $100 million or more on the economy. They are not intended to affect commercial activity, but impose rules of conduct on recreational visitors for health protection reasons in a limited area of public lands. The supplementary rules would not adversely affect, in a material way, the economy, productivity, competition, jobs, the environment, public health or safety, or State, local, or tribal Governments or communities. The proposed supplementary rules would not create a serious inconsistency or otherwise interfere with an action taken or planned by another agency. The proposed supplementary rules do not materially alter the budgetary effects of entitlements, grants, user fees, or loan programs or the right or obligations of their recipients, nor do they raise novel legal or policy issues. They merely strive to protect human health, safety, and the environment.

Clarity of the Rules

Executive Order 12866 requires each agency to write regulations that are simple and easy to understand. The BLM invites your comments on how to make these proposed supplementary rules easier to understand, including answers to questions such as the following:

(1) Are the requirements in the proposed supplementary rules clearly stated?

(2) Do the proposed supplementary rules contain technical language or jargon that interferes with their clarity?

(3) Does the format of the proposed supplementary rules (grouping and order of sections, use of headings, paragraphing, etc.) aid or reduce their clarity?

(4) Would the proposed supplementary rules be easier to understand if they were divided into more (but shorter) sections?

(5) Is the description of the proposed supplementary rules in the SUPPLMENTARY INFORMATION section of this preamble helpful in understanding the proposed supplementary rules? How could this description be more helpful in making the proposed supplementary rules easier to understand?

Please send any comments you may have on the clarity of the proposed supplementary rules to one of the addresses specified in the ADDRESSES section.

National Environmental Policy Act

As documented in Environmental Assessment No. UT-110-08-012 (“Supplementary Rules for Dry Lakebed and Sand Spring at Coral Pink Sand Dunes”), and an associated Finding of No Significant Impact and Decision Record, the proposed supplementary rules do not constitute a major Federal action significantly affecting the quality of the human environment under Section 102(2)(C) of the National Environmental Policy Act of 1969, 42 U.S.C. 4332(2)(C).

Regulatory Flexibility Act

Congress enacted the Regulatory Flexibility Act (RFA), 5 U.S.C. 601-612, to ensure that Government regulations do not unnecessarily or disproportionately burden small entities. The RFA requires a regulatory flexibility analysis if a rule would have a significant economic impact, either detrimental or beneficial, on a substantial number of small entities. The proposed supplementary rules do not pertain specifically to commercial or governmental entities of any size, but to public recreational use of specific public lands. Therefore, the BLM has determined under the RFA that the proposed supplementary rules would not have a significant economic impact on a substantial number of small entities.

Small Business Regulatory Enforcement Fairness Act

These proposed supplementary rules do not constitute a “major rule” as defined at 5 U.S.C. 804(2). The proposed supplementary rules merely contain rules of conduct for recreational use of certain public lands. The proposed supplementary rules would not affect business, commercial, or industrial use of the public lands.

Unfunded Mandates Reform Act

The proposed supplementary rules would not impose an unfunded mandate on State, local, or tribal Governments in the aggregate, or the private sector, of more than $100 million per year; nor would they have a significant or unique effect on small governments. Theses proposed supplementary rules do not require anything of State, local, or tribal Governments. Therefore, the BLM is not required to prepare a statement containing the information required by the Unfunded Mandates Reform Act, 2 U.S.C. 1531 et seq.

Executive Order 12630, Governmental Actions and Interference with Constitutionally Protected Property Rights (Takings)

The proposed supplementary rules are not a Government action capable of interfering with constitutionally protected property rights. The proposed supplementary rules do not address property rights in any form, and do not cause the impairment of anybody's property rights. Therefore, the BLM has determined that these proposed supplementary rules would not cause a taking of private property or require further discussion of takings implications under this Executive Order.

Executive Order 13132, Federalism

The proposed supplementary rules would not have a substantial direct effect on the States, on the relationship between the National Government and the States, or on the distribution of power and responsibilities among the various levels of Government. The proposed supplementary rules apply on a limited area of land in only one State, Utah. Therefore, the BLM has determined that the proposed supplementary rules do not have sufficient Federalism implications to warrant preparation of a Federalism assessment.

Executive Order 12988, Civil Justice Reform

Under Executive Order 12988, the BLM has determined that the proposed supplementary rules would not unduly burden the judicial system and that the requirements of sections 3(a) and 3(b)(2) of the Order are met. The supplementary rules contain rules of conduct for recreational use of certain public lands to protect human health and the environment.

Executive Order 13175, Consultation and Coordination With Indian Tribal Governments

In accordance with Executive Order 13175, the BLM has found that these proposed supplementary rules do not include policies that have tribal implications. The proposed supplementary rules do not affect lands held for the benefit of Indians, Aleuts, or Eskimos.

Paperwork Reduction Act

These proposed supplementary rules do not contain information collection requirements that the Office of Management and Budget must approve under the Paperwork Reduction Act, 44 U.S.C. 3501 et seq.

Executive Order 13211, Actions Concerning Regulations That Significantly Affect Energy Supply, Distribution, or Use

These proposed supplementary rules do not comprise a significant energy action. The supplementary rules would not have an adverse effect on energy supplies, production, or consumption. They only address motorized dispersed camping at two sites on BLM-administered public lands, and have no connection with energy policy.

Author

The principal author of the proposed supplementary rules is Tom Christensen, Outdoor Recreation Planner, Kanab Field Office, Bureau of Land Management.

For the reasons stated in the Preamble, and under the authority for supplementary rules at 43 U.S.C. 1740 and 43 CFR 8365.1-6, the Utah State Director, Bureau of Land Management, proposes to issue these supplementary rules for public lands managed by the BLM in Utah, to read as follows:

Supplementary Rules for Dispersed Camping at the Sand Spring and Dry Lake Bed Sites Managed by the Kanab Field Office, Kane County, UT

Definitions

Gray water: Wastewater from a sink, bath or laundry machine.

Motorized dispersed camping: The erecting of a tent or other shelter, with the parking of a motor vehicle, motor home or trailer, on public lands away from developed recreation facilities, for the apparent purpose of overnight occupancy while engaged in recreational activities such as hiking, hunting, fishing, bicycling, sightseeing, off-road vehicle activities, or other generally recognized forms of recreation.

Supplementary Rules

1. These supplementary rules apply, except as specifically exempted, to all motorized dispersed camping in and adjacent to Sand Spring and the dry lake bed campsites within the Moquith Mountain Wilderness Study Area (WSA). These campsites are comprised of public lands administered by the Bureau of Land Management near Kanab, Utah inclusive of the following sections: T. 43 S., R. 7 W., Section 17 and 18; and T. 43 S., R. 8 W., Section 14.

2. These supplementary rules are in effect on a year-round basis and will remain in effect until modified by the authorized officer.

3. Ground fires are prohibited at Sand Spring within a 500-foot radius of the designated motorized entry path to the sand dunes within the Moquith Mountain WSA.

4. Ground fires that are not contained within a fire pan are prohibited at the dry lake bed.

5. Disposal of garbage, ashes or gray water is prohibited at Sand Spring and the dry lake bed. The digging of holes for the purpose of disposal of garbage, ashes or gray water at Sand Spring and the dry lake bed is also prohibited.

Enforcement

Any person who violates any of these supplementary rules may be tried before a United States Magistrate and fined no more than $1,000, imprisoned no more than 12 months, or both, in accordance with 43 U.S.C. 1733(a) and 43 CFR 8360.0-7. Such violations may also be subject to the enhanced penalties provided by 18 U.S.C 3571 and 3581. In accordance with 43 CFR 8365.1-7, State or local officials may also impose penalties for violations of Utah law.

Jeff Rawson,
Acting State Director.

[FR Doc. E8-25153 Filed 10-21-08; 8:45 am]

BILLING CODE 4310-DQ-P